DEPARTMENT OF HOMELAND SECURITY

Federal Emergency Management Agency

44 CFR Part 65

[Docket ID FEMA-2010-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p.376.

§ 65.4 [Amended]

2. The tables published under the authority of § 65.4 are amended as follows:

State and county | Location and case No. | Date and name of newspaper where notice was published | Chief executive officer of community | Effective date of modification | Community No.
Alabama: Tuscaloosa (FEMA Docket No.: B-1086) | City of Tuscaloosa (09-04-2835P). | October 12, 2009; October 19, 2009; Tuscaloosa News | The Honorable Walter Maddox, Mayor, City of Tuscaloosa, P.O. Box 2089, Tuscaloosa, AL 35401 | February 16, 2010 | 010203
Arizona:
Cochise (FEMA Docket No.: B-1088) | Unincorporated areas of Cochise County (09-09-2171P). | October 12, 2009; October 19, 2009; Sierra Vista Herald | The Honorable Richard Searle, Vice Chairman, Cochise County Board of Supervisors, 1415 West Melody Lane, Building G, Bisbee, AZ 85603 | February 16, 2010 | 040012
Gila (FEMA Docket No.: B-1082) | Town of Payson (09-09-0436P). | September 15, 2009; September 22, 2009; Payson Roundup | The Honorable Kenny Evans, Mayor, Town of Payson, 303 North Beeline Highway, Payson, AZ 85541 | January 20, 2010 | 040107
Maricopa (FEMA Docket No.: B-1081) | Town of Buckeye (08-09-0929P). | August 27, 2009; September 3, 2009; Arizona Business Gazette | The Honorable Jackie Meck, Mayor, City of Buckeye, 1101 East Ash Avenue, Buckeye, AZ 85326 | August 10, 2009 | 040039
Maricopa (FEMA Docket No.: B-1088) | City of El Mirage (09-09-1385P). | October 29, 2009; November 5, 2009; Arizona Business Gazette | The Honorable Fred Waterman, Mayor, City of El Mirage, P.O. Box 26, El Mirage, AZ 85335 | October 22, 2009 | 040041
Maricopa (FEMA Docket No.: B-1081) | City of Goodyear (08-09-0929P). | August 27, 2009; September 3, 2009; Arizona Business Gazette | The Honorable James M. Cavanaugh, Mayor, City of Goodyear, 190 North Litchfield Road, Goodyear, AZ 85338 | August 10, 2009 | 040046
Maricopa (FEMA Docket No.: B-1088) | City of Surprise (09-09-1385P). | October 29, 2009; November 5, 2009; Arizona Business Gazette | The Honorable Lyn Truitt, Mayor, City of Surprise, 12425 West Bell Road, Surprise, AZ 85374 | October 22, 2009 | 040053
Maricopa (FEMA Docket No.: B-1081) | Unincorporated areas of Maricopa County (08-09-0929P). | August 27, 2009; September 3, 2009; Arizona Business Gazette | The Honorable Andrew W. Kunasek, Chairman, Maricopa County Board of Supervisors, 301 West Jefferson, 10th Floor, Phoenix, AZ 85003 | August 10, 2009 | 040037
Maricopa (FEMA Docket No.: B-1088) | Unincorporated areas of Maricopa County (09-09-1385P). | October 29, 2009; November 5, 2009; Arizona Business Gazette | The Honorable Andrew W. Kunasek, Chairman, Maricopa County Board of Supervisors, 301 West Jefferson Street, 10th Floor, Phoenix, AZ 85003 | October 22, 2009 | 040037
Pinal (FEMA Docket No.: B-1086) | Unincorporated areas of Pinal County (09-09-0732P). | October 6, 2009; October 13, 2009; Casa Grande Dispatch | The Honorable Lionel D. Ruiz, Chairman, Pinal County Board of Supervisors, P.O. Box 827, Florence, AZ 85232 | September 24, 2009 | 040077
Yavapai (FEMA Docket No.: B-1088) | Town of Prescott Valley (09-09-1988P). | November 2, 2009; November 9, 2009; Prescott Daily Courier | The Honorable Harvey Skoog, Town of Prescott Valley, 7501 East Civic Circle, Prescott Valley, AZ 86314 | March 9, 2010 | 040121
Arkansas:
Benton (FEMA Docket No.: B-1086) | City of Rogers (08-06-2995P). | October 6, 2009; October 13, 2009; Morning News | The Honorable Steven A. Womack, Mayor, City of Rogers, 301 West Chestnut Street, Rogers, AR 72756 | February 10, 2010 | 050013
Pulaski (FEMA Docket No.: B-1090) | City of Little Rock (09-06-1629P). | November 10, 2009; November 17, 2009; Arkansas Democrat-Gazette | The Honorable Mark Stodola, Mayor, City of Little Rock, 500 West Markham, Suite 203, Little Rock, AR 72201 | March 17, 2010 | 050181
California:
Alameda (FEMA Docket No.: B-1088) | City of Fremont (09-09-0112P). | October 12, 2009; October 19, 2009; The Argus | The Honorable Robert Wasserman, Mayor, City of Freemont, 3300 Capitol Avenue, Fremont, CA 94538 | February 16, 2010 | 065028
Riverside (FEMA Docket No.: B-1090) | City of Corona (09-09-0491P). | November 10, 2009; November 17, 2009; The Press-Enterprise | The Honorable Steve Nolan, Mayor, City of Corona, 400 South Vincentia Avenue, Corona, CA 92882 | March 17, 2010 | 060250
Riverside (FEMA Docket No.: B-1079) | City of Temecula (08-09-0430P). | August 7, 2009; August 14, 2009; The Press-Enterprise | The Honorable Maryann Edwards, Mayor, City of Temecula, P.O. Box 9033, Temecula, CA 92589 | December 14, 2009 | 060742
Riverside (FEMA Docket No.: B-1079) | Unincorporated areas of Riverside County (08-09-0430P). | August 7, 2009; August 14, 2009; The Press-Enterprise | The Honorable Jeff Stone, Chairman, Riverside County Board of Supervisors, P.O. Box 1486, Riverside, CA 92502 | December 14, 2009 | 060246
San Diego (FEMA Docket No.: B-1088) | City of Chula Vista (09-09-0757P). | October 16, 2009; October 23, 2009; The Star News | The Honorable Cheryl Cox, Mayor, City of Chula Vista, 276 4th Avenue, Chula Vista, CA 91910 | November 2, 2009 | 065021
San Diego (FEMA Docket No.: B-1088) | City of San Marcos (08-09-1888P). | October 16, 2009; October 23, 2009; North County Times | The Honorable James Desmond, Mayor, City of San Marcos, 1 Civic Drive, San Marcos, CA 92069 | February 20, 2010 | 060296
San Diego (FEMA Docket No.: B-1082) | City of Vista (09-09-0724P). | September 18, 2009; September 25, 2009; North County Times | The Honorable Morris B. Vance, Mayor, City of Vista, 600 Eucalyptus Avenue, Vista, CA 92084 | October 5, 2009 | 060297
Santa Barbara (FEMA Docket No.: B-1079) | City of Solvang (09-09-0651P). | August 12, 2009; August 19, 2009; Santa Barbara News-Press | The Honorable David Smyser, Mayor, City of Solvang, P.O. Box 107, Solvang, CA 93464 | December 17, 2009 | 060756
Santa Barbara (FEMA Docket No.: B-1079) | Unincorporated areas of Santa Barbara County. (09-09-0651P). | August 12, 2009; August 19, 2009; Santa Barbara News-Press | The Honorable Joseph Centeno, Chairman, Santa Barbara County Board of Supervisors, 105 East Anapamu Street, Santa Barbara, CA 93101 | December 17, 2009 | 060331
Shasta (FEMA Docket No.: B-1082) | City of Anderson (09-09-1040P). | September 23, 2009; September 30, 20009; Anderson Valley Post | The Honorable Butch Schaefer, Mayor, City of Anderson, 1887 Howard Street, Anderson, CA 96007 | January 28, 2009 | 060359
Ventura (FEMA Docket No.: B-1082) | City of Ojai (09-09-0524P). | September 10, 2009; September 17, 2009; Ventura County Star | The Honorable Joe DeVito, Mayor, City of Ojai, P.O. Box 1570, Ojai, CA 93024 | January 15, 2009 | 060416
Ventura (FEMA Docket No.: B-1082) | Unincorporated areas of Ventura County (09-09-0524P). | September 10, 2009; September 17, 2009; Ventura County Star | The Honorable Linda F. Parks, Chairperson, Ventura County Board of Supervisors, 800 South Victoria Avenue, Ventura, CA 93009 | January 15, 2009 | 060413
Colorado:
Adams (FEMA Docket No.: B-1081) | City of Northglenn (09-08-0457P). | August 27, 2009; September 3, 2009; Northglenn-Thornton Sentinel | The Honorable Kathleen Novak, Mayor, City of Northglenn, 11701 Community Center Drive, Northglenn, CO 80233 | August 20, 2009 | 080257
Adams (FEMA Docket No.: B-1081) | City of Thornton (09-08-0457P). | August 27, 2009; September 3, 2009; Northglenn-Thornton Sentinel | The Honorable Erik Hansen, Mayor, City of Thornton, 9500 Civic Center Drive, Thornton, CO 80229 | August 20, 2009 | 080007
Adams (FEMA Docket No.: B-1086) | City of Commerce City (09-08-0729P). | October 8, 2009; October 15, 2009; Northglenn-Thornton Sentinel | The Honorable Paul Natale, Mayor, City of Commerce City, 7887 East 60th Avenue, Commerce City, CO 80022 | February 12, 2010 | 080006
Adams (FEMA Docket No.: B-1086) | Unincorporated areas of Adams County (09-08-0729P). | October 8, 2009; October 15, 2009; Northglenn-Thornton Sentinel | The Honorable Larry W. Pace, Chairman, Adams County Board of Commissioners, 450 South 4th Avenue, Brighton, CO 80601 | February 12, 2010 | 080001
Arapahoe (FEMA Docket No.: B-1079) | City of Aurora (09-08-0733P). | July 23, 2009; July 30, 2009; Aurora Sentinel | The Honorable Ed Tauer, Mayor, City of Aurora, 15151 East Alameda Parkway, Aurora, CO 80012 | July 17, 2009 | 080002
Arapahoe (FEMA Docket No.: B-1081) | Unincorporated areas of Arapahoe County (09-08-0001P). | August 24, 2009; August 31, 2009; Denver Post | The Honorable Susan Beckman, Chair, Arapahoe County Board of Commissioners, 5334 South Prince Street, Littleton, CO 80166 | December 29, 2009 | 080011
Boulder (FEMA Docket No.: B-1079) | Unincorporated areas of Boulder County (09-08-0486P). | August 7, 2009; August 14, 2009; The Daily Camera | The Honorable Ben Pearlman, Chairman, Boulder County Board of Commissioners, Boulder County Courthouse, P.O. Box 471, Boulder, CO 80306 | December 14, 2009 | 080023
Denver (FEMA Docket No.: B-1086) | City and County of Denver (09-08-0512P). | October 8, 2009; October 15, 2009; Denver Post | The Honorable John W. Hickenlooper, Mayor, City and County of Denver, 1437 Bannock Street, Suite 350, Denver, CO 80202 | February 12, 2010 | 080046
Denver (FEMA Docket No.: B-1086) | City and County of Denver (09-08-0729P). | October 8, 2009; October 15, 2009; Denver Post | The Honorable John W. Hickenlooper, Mayor, City and County of Denver, 1437 Bannock Street, Suite 350, Denver, CO 80202 | February 12, 2010 | 080046
El Paso (FEMA Docket No.: B-1082) | City of Colorado Springs (09-08-0002P). | September 23, 2009; September 30, 2009; The Gazette | The Honorable Lionel Rivera, Mayor, City of Colorado Springs, P.O. Box 1575, Colorado Springs, CO 80901 | January 28, 2009 | 080060
Jefferson (FEMA Docket No.: B-1082) | Unincorporated areas of Jefferson County (09-08-0257P). | September 30, 2009; October 7, 2009; High Timber Times | The Honorable J. Kevin McCasky, Chairman, Jefferson County Board of Commissioners, 100 Jefferson County Parkway, Golden, CO 80419 | October 5, 2009 | 080087
Larimer (FEMA Docket No.: B-1088) | City of Fort Collins (08-08-0893P). | October 16, 2009; October 23, 2009; Fort Collins Coloradoan | The Honorable Darin Atteberry, City of Fort Collins Manager, 300 LaPorte Avenue, Fort Collins, CO 80521 | February 22, 2010 | 080102
Larimer (FEMA Docket No.: B-1088) | Unincorporated areas of Larimer County (08-08-0893P). | October 16, 2009; October 23, 2009; Fort Collins Coloradoan | The Honorable Frank Lancaster, Larimer County Manager, P.O. Box 1190, Fort Collins, CO 80522 | February 22, 2010 | 080101
Mesa (FEMA Docket No.: B-1088) | Unincorporated areas of Mesa County (09-08-0604P). | October 16, 2009; October 23, 2009; Daily Sentinel | Mr. Steven Acquafresca, Chairman, Mesa County Board of Commissioners, P.O. Box 20000, Grand Junction, CO 81502 | March 2, 2010 | 080115
Weld (FEMA Docket No.: B-1090) | Town of Erie (09-08-0608P). | October 30, 2009; November 6, 2009; Greeley Tribune | The Honorable Andrew J. Moore, Mayor, Town of Erie, 645 Holbrook Street, Erie, CO 80516 | March 6, 2010 | 080181
Weld (FEMA Docket No.: B-1090) | Unincorporated areas of Weld County (09-08-0608P). | October 30, 2009; November 6, 2009; Greeley Tribune | The Honorable Bill Garcia, Chairman, Weld County Board of Commissioners, 915 10th Street, Greeley, CO 80632 | March 6, 2010 | 080266
Connecticut:
Middlesex (FEMA Docket No.: B-1088) | Town of Cromwell (09-01-0957P). | July 13, 2009; July 20, 2009; Middletown Press | The Honorable Jeremy Shingleton, First Selectman, Town of Cromwell, 41 West Street, Cromwell, CT 06416 | June 30, 2009 | 090123
New Haven (FEMA Docket No.: B-1088) | Town of Cheshire (09-01-1101P). | October 15, 2009; October 22, 2009; Cheshire Herald | The Honorable Matt Hall, Chairman, Town of Cheshire Council, 84 South Main Street, Cheshire, CT 06410 | February 19, 2010 | 090074
New London (FEMA Docket No.: B-1086) | Town of Colchester (09-01-1230P). | October 9, 2009; October 16, 2009; Hartford Courant | The Honorable Linda Hodge, First Selectman, Town of Colchester, 127 Norwich Avenue, Colchester, CT 06415 | February 15, 2010 | 090095
Delaware: New Castle (FEMA Docket No.: B-1082) | Unincorporated areas of New Castle County (09-03-0870P). | September 7, 2009; September 14, 2009; The News Journal | The Honorable Christopher Coons, New Castle County Executive, 87 Reads Way Corporate Commons, New Castle, DE 19720 | August 21, 2009 | 105085
Florida:
Alachua (FEMA Docket No.: B-1082) | City of Gainesville (09-04-1384P). | October 2, 2009; October 9, 2009; The Gainesville Sun | The Honorable Pegeen Hanrahan, Mayor, City of Gainesville, P.O. Box 490, Station 19, Gainesville, FL 32601 | September 24, 2009 | 125107
Duval (FEMA Docket No.: B-1088) | City of Jacksonville (09-04-2297P). | October 13, 2009; October 20, 2009; Jacksonville Daily Record | The Honorable John Peyton, Mayor, City of Jacksonville, 117 West Duval Street, 4th Floor, Jacksonville, FL 32202 | November 9, 2009 | 120077
Lee (FEMA Docket No.: B-1081) | Unincorporated areas of Lee County (09-04-5099P). | August 28, 2009; September 4, 2009; News Press | The Honorable Ray Judah, Chairman, Lee County Board of Commissioners, P.O. Box 398, Fort Myers, FL 33902 | January 4, 2009 | 125124
Leon (FEMA Docket No.: B-1079) | City of Tallahassee (09-04-1668P). | August 11, 2009; August 18, 2009; Tallahassee Democrat | The Honorable John Marks, Mayor, City of Tallahassee, 300 South Adams Street, Tallahassee, FL 32301 | December 16, 2009 | 120144
Osceola (FEMA Docket No.: B-1082) | City of Kissimmee (08-04-1601P). | August 6, 2009; August 13, 2009; Osceola News-Gazette | The Honorable Jim Swan, Mayor, City of Kissimmee, 101 North Church Street, Kissimmee, FL 34741 | August 24, 2009 | 120190
Osceola (FEMA Docket No.: B-1082) | Unincorporated areas of Osceola County (08-04-1601P). | August 6, 2009; August 13, 2009; Osceola News-Gazette | The Honorable John “Q” Quinones, Chairman, Osceola County Board of Commissioners, 1 Courthouse Square, Suite 4700, Kissimmee, FL 34741 | August 24, 2009 | 120189
Polk (FEMA Docket No.: B-1082) | Unincorporated areas of Polk County (09-04-5687P). | September 9, 2009; September 16, 2009; Polk County Democrat | The Honorable Sam Johnson, Chairman, Polk County Board of Commissioners, P.O. Box 9005, Drawer BC01, Bartow, FL 33831 | August 31, 2009 | 120261
Georgia:
Catoosa (FEMA Docket No.: B-1090) | Unincorporated areas of Catoosa County (09-04-1746P). | November 11, 2009; November 18, 2009; Catoosa County News | The Honorable Keith Greene, Chairman, Catoosa County Board of Commissioners, 800 Lafayette Street, Ringgold, GA 30736 | March 18, 2010 | 130028
Cobb (FEMA Docket No.: B-1086) | Unincorporated areas of Cobb County (09-04-1602P). | October 9, 2009; October 16, 2009; Marietta Daily Journal | Chairman, Cobb County Board of Commissioners, 100 Cherokee Street, Marietta, GA 30090 | February 15, 2010 | 130052
DeKalb (FEMA Docket No.: B-1082) | City of Atlanta (08-04-5599P). | May 8, 2009; May 15, 2009; Atlanta Journal-Constitution | The Honorable Shirley Franklin, Mayor, City of Atlanta, 55 Trinity Avenue, Atlanta, GA 30303 | May 28, 2009 | 135157
Harris (FEMA Docket No.: B-1090) | Unincorporated areas of Harris County (09-04-6111P). | October 22, 2009; October 29, 2009; Harris County Journal | The Honorable J. Harry Lange, Chairman, Harris County Board of Commissioners, P.O. Box 365, Hamilton, GA 31811 | February 26, 2010 | 130338
Newton (FEMA Docket No.: B-1088) | City of Covington (09-04-4700P). | October 9, 2009; October 16, 2009; The Covington News | Ms. Kim Carter, Mayor, City of Covington, 2194 Emory Street, Covington, GA 30014 | February 15, 2010 | 130144
Hawaii:
Hawaii (FEMA Docket No.: B-1079) | Unincorporated areas of Hawaii County (08-09-1858P). | August 12, 2009; August 19, 2009; Hawaii Tribune-Herald | The Honorable William P. Kenoi, Mayor, County of Hawaii, 25 Aupuni Street, Hilo, HI 96720 | December 17, 2009 | 155166
Hawaii (FEMA Docket No.: B-1088) | Unincorporated areas of Hawaii County (09-09-1608P). | October 12, 2009; October 19, 2009; Hawaii Tribune-Herald | The Honorable William P. Kenoi, Mayor, County of Hawaii, 25 Aupuni Street, Hilo, HI 96720 | February 16, 2010 | 155166
Illinois:
Kane (FEMA Docket No.: B-1082) | City of Batavia (09-05-2286P). | September 15, 2009; September 22, 2009; The Chronicle | The Honorable Jeffery D. Schielke, Mayor, City of Batavia, 100 North Island Avenue, Batavia, IL 60510 | September 1, 2009 | 170321
Kane (FEMA Docket No.: B-1082) | Village of Hampshire (09-05-1214P). | August 28, 2009; September 4, 2009; Northwest Herald | The Honorable Jeffrey Magnussen, President, Village of Hampshire, P.O. Box 457, Hampshire, IL 60140 | August 13, 2009 | 170327
Kane (FEMA Docket No.: B-1082) | Unincorporated areas of Kane County (09-05-2286P). | September 15, 2009; September 22, 2009; The Chronicle | The Honorable Karen McConnaughay, Kane County Board Chairman, 719 South Batavia Avenue, Geneva, IL 60134 | September 1, 2009 | 170896
McHenry (FEMA Docket No.: B-1082) | Village of Johnsburg (09-05-2578P). | August 21, 2009; August 28, 2009; Northwest Herald | Mr. Edwin P. Hettermann, President, Village of Johnsburg, 1515 West Channel Beach Drive, McHenry, IL 60050 | August 17, 2009 | 170486
Will (FEMA Docket No.: B-1090) | Village of Bolingbrook (10-05-0103P). | November 5, 2009; November 12, 2009; Bolingbrook Bugle | The Honorable Roger C. Claar, Mayor, Village of Bolingbrook, 375 West Briarcliff Road, Bolingbrook, IL 60440 | March 12, 2010 | 170812
Will (FEMA Docket No.: B-1088) | City of Joliet (09-05-0265P). | October 30, 2009; November 6, 2009; Herald News | The Honorable Arthur Schultz, Mayor, City of Joliet, 150 West Jefferson Street, Joliet, IL 60432 | October 21, 2009 | 170702
Will (FEMA Docket No.: B-1088) | Unincorporated areas of Will County (09-05-0265P). | October 30, 2009; November 6, 2009; Herald News | The Honorable Lawrence M. Walsh, Will County Executive, 302 North Chicago Street, Joliet, IL 60432 | October 21, 2009 | 170695
Will (FEMA Docket No.: B-1086) | Unincorporated areas of Will County (09-05-3054P). | October 7, 2009; October 14, 2009; Herald News | The Honorable Lawrence M Walsh, Will County Executive, 302 North Chicago Street, Joliet, IL 60432 | September 23, 2009 | 170695
Kentucky:
Fayette (FEMA Docket No.: B-1088) | Lexington-Fayette Urban County Government (09-04-1695P). | October 7, 2009; October 14, 2009; Lexington Herald-Leader | The Honorable Jim Newberry, Mayor, Lexington-Fayette Urban County Government, 200 East Main Street, 12th Floor, Lexington, KY 40507 | September 28, 2009 | 210067
Warren (FEMA Docket No.: B-1090) | City of Bowling Green (10-04-0070P). | November 10, 2009; November 17, 2009; Daily News | The Honorable Elaine Walker, Mayor, City of Bowling Green, P.O. Box 430, Bowling Green, KY 42101 | October 30, 2009 | 210219
Kansas: Johnson (FEMA Docket No.: B-1079) | City of Mission (09-07-0751P). | August 18, 2009; August 25, 2009; The Legal Record | The Honorable Laura McConwell, Mayor, City of Mission, 6090 Woodson Road, Mission, KS 66202 | August 4, 2009 | 200170
Maine: Penobscot (FEMA Docket No.: B-1082) | Town of Hampden (09-01-0938P). | September 7, 2009; September 14, 2009; Bangor Daily News | The Honorable Matthew Arnett, Mayor, Town of Hampden, 106 Western Avenue, Hampden, ME 04444 | August 21, 2009 | 230168
Maryland: Carroll (FEMA Docket No.: B-1090) | City of Westminster (09-03-0356P). | November 16, 2009; November 23, 2009; Carroll County Times | The Honorable Kevin R. Utz, Mayor, City of Westminster, 1838 Emerald Hill Lane, Westminster, MD 21157 | March 23, 2010 | 240018
Michigan:
Kent (FEMA Docket No.: B-1082) | City of Grand Rapids (09-05-1087P). | July 1, 2009; July 8, 2009; Grand Rapids Press | Mr. Mark DeClercq, P.E., City Engineer, City of Grand Rapids, 300 Monroe Avenue Northwest, Grand Rapids, MI 49503 | June 23, 2009 | 260106
Oakland (FEMA Docket No.: B-1090) | City of Southfield (10-05-0105P). | November 10, 2009; November 17, 2009; Oakland Press | The Honorable Brenda L. Lawrence, Mayor, City of Southfield, 26000 Evergreen Road, Southfield, MI 48076 | March 17, 2010 | 260179
Missouri:
Phelps (FEMA Docket No.: B-1079) | Unincorporated areas of Phelps County (09-07-0033P). | August 11, 2009; August 18, 2009; Rolla Daily News | The Honorable Randy Verkamp, Presiding Commissioner, Phelps County Commission, 200 North Main Street, Rolla, MO 65401 | December 16, 2009 | 290824
Phelps (FEMA Docket No.: B-1079) | City of Rolla (09-07-0033P). | August 11, 2009; August 18, 2009; Rolla Daily News | The Honorable William Jenks III, Mayor, City of Rolla, P.O. Box 979, Rolla, MO 65401 | December 16, 2009 | 290285
Montana: Mineral (FEMA Docket No.: B-1079) | Unincorporated areas of Mineral County (09-08-0372P). | August 12, 2009; August 19, 2009; Mineral Independent | The Honorable Clark Conrow, Chairman, Mineral County Board of Commissioners, 300 River Street, Superior, MT 59872 | November 30, 2009 | 300159
Nebraska:
Howard FEMA Docket No.: B-1082) | Unincorporated areas of Howard County (09-07-0907P). | September 23, 2009; September 30, 2009; The Phonograph-Herald | The Honorable Bill Sack, Chairman, Howard County Board of Commissioners, 1057 Kimball Road, St. Paul, NE 68873 | January 28, 2010 | 310446
Howard FEMA Docket No.: B-1082) | City of St. Paul (09-07-0907P). | September 23, 2009; September 30, 2009; The Phonograph-Herald | The Honorable Danny Nielsen, Mayor, City of St. Paul, 704 6th Street, St. Paul, NE 68873 | January 28, 2010 | 310119
Saunders (FEMA Docket No.: B-1090) | City of Ashland (09-07-2079P). | November 5, 2009; November 12, 2009; Ashland Gazette | The Honorable Paul Lienke, Mayor, City of Ashland, 2304 Silver Street, Ashland, NE 68003 | March 12, 2010 | 310196
Nevada:
Washoe (FEMA Docket No.: B-1079) | City of Reno (09-09-0999P). | August 11, 2009; August 18, 2009; Reno Gazette-Journal | The Honorable Robert Cashell, Mayor, City of Reno, P.O. Box 1900, Reno, NV 89505 | December 16, 2009 | 320020
Washoe (FEMA Docket No.: B-1079) | Unincorporated areas of Washoe County (09-09-0999P). | August 11, 2009; August 18, 2009; Reno Gazette-Journal | The Honorable Robert Larkin, Chair, Washoe County Board of Commissioners, P.O. Box 11130, Reno, NV 89520 | December 16, 2009 | 320019
New Jersey: Monmouth (FEMA Docket No.: B-1079) | Township of Marlboro (09-02-0785P). | August 13, 2009; August 20, 2009; Asbury Park Press | The Honorable Jonathan Hornik, Mayor, Township of Marlboro, 1979 Township Drive, Marlboro, NJ 07746 | December 18, 2009 | 340310
New Mexico:
Bernalillo (FEMA Docket No.: B-1079) | City of Albuquerque (08-06-2955P). | August 12, 2009; August 19, 2009; The Albuquerque Journal | The Honorable Martin J. Chavez, Mayor, City of Albuquerque, P.O. Box 1293, Albuquerque, NM 87103 | December 17, 2009 | 350002
Santa Fe (FEMA Docket No.: B-1082) | City of Santa Fe (09-06-1398P). | September 8, 2009; September 15, 2009; Santa Fe New Mexican | The Honorable David Coss, Mayor, City of Santa Fe, P.O. Box 909, Santa Fe, NM 87504 | January 13, 2010 | 350070
Santa Fe (FEMA Docket No.: B-1082) | City of Santa Fe (09-06-1729P). | September 8, 2009; September 15, 2009; Santa Fe New Mexican | The Honorable David Coss, Mayor, City of Santa Fe, P.O. Box 909, Santa Fe, NM 87504 | January 13, 2010 | 350070
North Carolina:
Craven (FEMA Docket No.: B-1086) | Unincorporated Areas of Craven County (09-04-6122P). | October 7, 2009; October 14, 2009; Sun Journal | Mr. Harold Blizzard, Craven County Manager, 406 Craven Street, New Bern, NC 28560 | February 11, 2010 | 370072
Cumberland (FEMA Docket No.: B-1088) | Unincorporated Areas of Cumberland County (09-04-3582P). | October 7, 2009; October 14, 2009; Fayetteville Observer | Mr. James E. Martin, County Manager, Cumberland County, 117 Dick Street, Room 512, Fayetteville, NC 28301 | February 11, 2010 | 370076
Durham (FEMA Docket No.: B-1086) | City of Durham (08-04-4999P). | August 27, 2009; September 3, 2009; The Herald-Sun | The Honorable William V. Bell, Mayor, City of Durham, 101 City Hall Plaza, Durham, NC 27701 | January 4, 2010 | 370086
Durham (FEMA Docket No.: B-1081) | City of Durham (09-04-5688P). | July 31, 2009; August 7, 2009; The Herald-Sun | The Honorable William V. Bell, Mayor, City of Durham, 101 City Hall Plaza, Durham, NC 27701 | July 24, 2009 | 370086
Durham (FEMA Docket No.: B-1081) | Unincorporated Areas of Durham County (09-04-5688P). | July 31, 2009; August 7, 2009; The Herald-Sun | Mr. Mike Ruffin, Durham County Manager, 200 East Main Street, 2nd Floor, Old Courthouse, Durham, NC 27701 | July 24, 2009 | 370085
Oklahoma: Cleveland (FEMA Docket No.: B-1082) | City of Oklahoma City (08-06-3106P). | September 17, 2009; September 24, 2009; The Oklahoman | The Honorable Mick Cornett, Mayor, City of Oklahoma City, 200 North Walker Street, 3rd Floor, Oklahoma City, OK 73102 | January 22, 2010 | 405378
Oregon:
Clackamas (FEMA Docket No.: B-1079) | Unincorporated areas of Clackamas County (09-10-0019P). | August 11, 2009; August 18, 2009; The Oregonian | The Honorable Lynn Peterson, Chair, Clackamas County Board of Commissioners, 2051 Kaen Road, Oregon City, OR 97045 | December 16, 2009 | 415588
Clackamas (FEMA Docket No.: B-1079) | City of Wilsonville (09-10-0019P). | August 11, 2009; August 18, 2009; The Oregonian | The Honorable Tim Knapp, Mayor, City of Wilsonville, 11615 Southwest Jamaica, Wilsonville, OR 97070 | December 16, 2009 | 410025
Marion (FEMA Docket No.: B-1082) | City of Salem (09-10-0011P). | August 14, 2009; August 21, 2009; Statesman Journal | The Honorable Janet Taylor, Mayor, City of Salem, 555 Liberty Street Southeast, Room 220, Salem, OR 97301 | July 31, 2009 | 410167
Marion (FEMA Docket No.: B-1082) | Unincorporated areas of Marion County (09-10-0011P). | August 14, 2009; August 21, 2009; Statesman Journal | The Honorable Patti Milne, Chairman, Marion County Board of Commissioners, P.O. Box 14500, Salem, OR 97309 | July 31, 2009 | 410154
Umatilla (FEMA Docket No.: B-1081) | City of Stanfield (09-10-0493P). | August 28, 2009; September 4, 2009; East Oregonian | The Honorable Thomas J. McCann, Mayor, City of Stanfield, P.O. Box 369, Stanfield, OR 97875 | August 17, 2009 | 410213
Umatilla (FEMA Docket No.: B-1081) | Unincorporated areas of Umatilla County (09-10-0493P). | August 28, 2009; September 4, 2009; East Oregonian | The Honorable Larry Givens, Chairman, Umatilla County Board of Commissioners, 216 Southeast 4th Street, Pendleton, OR 97801 | August 17, 2009 | 410204
Pennsylvania:
Dauphin (FEMA Docket No.: B-1090) | Township of Lower Paxton (09-03-1723P). | November 9, 2009; November 16, 2009; Patriot News | The Honorable William Hawk, Chairman, Lower Paxton Township Board of Supervisors, 425 Prince Street, Harrisburg, PA 17109 | March 16, 2010 | 420384
Delaware (FEMA Docket No.: B-1079) | Borough of Eddystone (08-03-1531P). | August 13, 2009; August 20, 2009; Delaware County Daily Times | The Honorable Ralph Orr, Mayor, Borough of Eddystone, 1300 East 12th Street, Eddystone, PA 19022 | December 18, 2009 | 420413
Delaware (FEMA Docket No.: B-1079) | Township of Ridley (08-03-1531P). | August 13, 2009; August 20, 2009; Delaware County Daily Times | The Honorable Robert J. Willert, President, Township of Ridley Board of Commissioners, 100 East MacDade Boulevard, Folsom, PA 19033 | December 18, 2009 | 420429
Delaware (FEMA Docket No.: B-1079) | Borough of Ridley Park (08-03-1531P). | August 13, 2009; August 20, 2009; Delaware County Daily Times | The Honorable Hank Eberle, Jr., Mayor, Borough of Ridley Park, 105 East Ward Street, Ridley Park, PA 19078 | December 18, 2009 | 420430
Tennessee:
Knox (FEMA Docket No.: B-1082) | City of Knoxville (09-04-2543P). | September 4, 2009; September 11, 2009; Knoxville News-Sentinel | The Honorable Bill Haslam, Mayor, City of Knoxville, P.O. Box 1631, Knoxville, TN 37901 | January 11, 2010 | 475434
Knox (FEMA Docket No.: B-1082) | City of Knoxville (09-04-3474P). | September 18, 2009; September 25, 2009; Knoxville News-Sentinel | The Honorable Bill Haslam, Mayor, City of Knoxville, P.O. Box 1631, Knoxville, TN 37901 | January 25, 2010 | 475434
Knox (FEMA Docket No.: B-1082) | Unincorporated areas of Knox County (09-04-2543P). | September 4, 2009; September 11, 2009; Knoxville News-Sentinel | The Honorable Mike Ragsdale, Mayor, Knox County Tennessee, 400 Main Street, Suite 615, Knoxville, TN 37902 | January 11, 2010 | 475433
Rutherford (FEMA Docket No.: B-1090) | City of Murfreesboro (09-04-0707P). | October 28, 2009; November 4, 2009; Daily News Journal | The Honorable Thomas Bragg, Mayor, City of Murfreesboro, 111 West Vine Street, Murfreesboro, TN 37130 | March 4, 2010 | 470168
Rutherford (FEMA Docket No.: B-1090) | Unincorporated areas of Rutherford County (09-04-0707P). | October 28, 2009; November 4, 2009; Daily News Journal | The Honorable Ernest G. Burgess, Mayor, Rutherford County, 20 North Public Square, Room 101, Murfreesboro, TN 37130 | March 4, 2010 | 470165
Williamson (FEMA Docket No.: B-1086) | City of Brentwood (08-04-0312P). | October 8, 2009; October 15, 2009; Williamson A.M. | The Honorable Betsy Crossley, Mayor, City of Brentwood, 5211 Maryland Way, Brentwood, TN 37027 | September 22, 2009 | 470205
Williamson (FEMA Docket No.: B-1082) | City of Brentwood (08-04-5486P). | September 10, 2009; September 17, 2009; The Tennessean | The Honorable Betsy Crossley, Mayor, City of Brentwood, 5211 Maryland Way, Brentwood, TN 37027 | August 27, 2009 | 470205
Williamson (FEMA Docket No.: B-1086) | City of Franklin (08-04-0312P). | October 8, 2009; October 15, 2009; Williamson A.M. | The Honorable John Schroer, Mayor, City of Franklin, 109 3rd Avenue South, Franklin, TN 37064 | September 22, 2009 | 470206
Texas:
Bexar (FEMA Docket No: B-1090) | City of San Antonio (09-06-0484P). | November 6, 2009; November 13, 2009; Daily Commercial Recorder | The Honorable Julian Castro, Mayor, City of San Antonio, P.O. Box 839966, San Antonio, TX 78283 | November 23, 2009 | 480045
Bexar (FEMA Docket No.: B-1079) | City of San Antonio (08-06-2074P). | August 12, 2009; August 19, 2009; Daily Commercial Recorder | The Honorable Julian Castro, Mayor, City of San Antonio, P.O. Box 839966, San Antonio, TX 78283 | December 17, 2009 | 480045
Bexar (FEMA Docket No.: B-1079) | City of San Antonio (08-06-2153P). | August 12, 2009; August 19, 2009; Daily Commercial Recorder | The Honorable Julian Castro, Mayor, City of San Antonio, P.O. Box 839966, San Antonio, TX 78283 | December 17, 2009 | 480045
Bexar (FEMA Docket No: B-1086) | City of San Antonio (09-06-0765P). | October 9, 2009; October 16, 2009; Daily Commercial Recorder | The Honorable Julian Castro, Mayor, City of San Antonio, P.O. Box 839966, San Antonio, TX 78283 | February 15, 2010 | 480045
Bexar (FEMA Docket No: B-1086) | Unincorporated areas of Bexar County (09-06-0765P). | October 9, 2009; October 16, 2009; Daily Commercial Recorder | The Honorable Nelson W. Wolff, Bexar County Judge, 100 Dolorosa Street, Suite 120, San Antonio, TX 78205 | February 15, 2010 | 480035
Bexar (FEMA Docket No.: B-1090) | City of San Antonio (09-06-1554P). | November 5, 2009; November 12, 2009; Daily Commercial Recorder | The Honorable Julian Castro, Mayor, City of San Antonio, P.O. Box 839966, San Antonio, TX 78283 | March 12, 2010 | 480045
Brazoria and Harris (FEMA Docket No.: B-1082) | City of Pearland (08-06-0819P). | June 24, 2009; July 1, 2009; Pearland Reporter-News | The Honorable Tom Reid, Mayor, City of Pearland, 3519 Liberty Drive, Pearland, TX 77581 | October 29, 2009 | 480077
Brazos (FEMA Docket No.: B-1086) | City of Bryan (09-06-1530P). | October 8, 2009; October 15, 2009; Bryan-College Station Eagle | The Honorable D. Mark Conlee, Mayor, City of Bryan, 300 South Texas Avenue, Bryan, TX 77803 | February 12, 2010 | 480082
Collin (FEMA Docket No.: B-1090) | City of Allen (09-06-0276P). | November 12, 2009; November 19, 2009; Allen American | The Honorable Stephen Terrell, Mayor, City of Allen, 305 Century Parkway, Allen, TX 75013 | March 19, 2010 | 480131
Collin (FEMA Docket No.: B-1079) | City of McKinney (09-06-1503P). | August 14, 2009; August 21, 2009; McKinney Courier-Gazette | The Honorable Brian Loughmiller, Mayor, City of McKinney, P.O. Box 517, McKinney, TX 75070 | August 31, 2009 | 480135
Collin (FEMA Docket No.: B-1090) | City of Plano (09-06-0276P). | November 12, 2009; November 19, 2009; Plano Star-Courier | The Honorable Phil Dyer, Mayor, City of Plano, 1520 Avenue K, Plano, TX 75074 | March 19, 2010 | 480140
Collin (FEMA Docket No.: B-1081) | City of Sachse (08-06-2363P). | August 20, 2009; August 27, 2009; Sachse News | The Honorable Mike Felix, Mayor, City of Sachse, 5109 Peachtree Lane, Sachse, TX 75048 | November 25, 2009 | 480186
Collin (FEMA Docket No.: B-1081) | City of Wylie (08-06-2363P). | August 19, 2009; August 26, 2009; Wylie News | The Honorable Eric Hogue, Mayor, City of Wylie, 2000 State Highway 78 North, Wylie, TX 75098 | November 25, 2009 | 480759
Collin (FEMA Docket No.: B-1081) | Unincorporated areas of Collin County (08-06-2363P). | August 19, 2009; August 26, 2009; Wylie News | The Honorable Keith Self, Collin County Judge, 2300 Bloomdale Road, Suite 4192, McKinney, TX 75071 | November 25, 2009 | 480130
|  | August 20, 2009; August 27, 2009; Sachse News |  |  |
Dallas (FEMA Docket No.: B-1086) | City of Balch Springs (09-06-0149P). | October 9, 2009; October 16, 2009; Daily Commercial Record | The Honorable Carrie Gordon, Ph.D., Mayor, City of Balch Springs, 3117 Hickory Tree Road, Balch Springs, TX 75180 | February 15, 2010 | 480166
Dallas (FEMA Docket No.: B-1090) | City of Garland (09-06-0866P). | November 6, 2009; November 13, 2009; Dallas Morning News | The Honorable Ronald E. Jones, Mayor, City of Garland, P.O. Box 469002, Garland, TX 75046 | March 13, 2010 | 485471
Dallas (FEMA Docket No.: B-1090) | City of Glenn Heights (09-06-2323P). | July 10, 2009; July 17, 2009; Focus Daily News | The Honorable Clark Choate, Mayor, City of Glenn Heights, 1938 South Hampton Road, Glenn Heights, TX 75154 | November 16, 2009 | 481265
Denton (FEMA Docket No.: B-1082) | Town of Trophy Club (09-06-1124P). | September 11, 2009; September 18, 2009; Denton Record-Chronicle | The Honorable Nick Sanders, Mayor, Town of Trophy Club, 100 Municipal Drive, Trophy Club, TX 76262 | January 18, 2010 | 481606
Gillespie (FEMA Docket No.: B-1079) | Unincorporated areas of Gillespie County (09-06-0312P). | July 29, 2009; August 5, 2009; Fredericksburg Standard/Radio Post | The Honorable Mark Stroeher, Gillespie County Judge, 101 West Main Street, Fredericksburg, TX 78624 | December 3, 2009 | 480696
Harris (FEMA Docket No.: B-1086) | Unincorporated areas of Harris County (09-06-0531P). | October 12, 2009; October 19, 2009; Houston Chronicle | The Honorable Edward Emmett, Harris County Judge, 1001 Preston Street, Suite 911, Houston, TX 77002 | February 16, 2010 | 480287
Johnson (FEMA Docket No.: B-1088) | City of Burleson (09-06-0485P). | October 7, 2009; October 14, 2009; Burleson Star | The Honorable Kenneth Shetter, Mayor, City of Burleson, 141 West Renfro Street, Burleson, TX 76028 | February 11, 2010 | 485459
Travis (FEMA Docket No.: B-1088) | City of Austin (09-06-0763P). | October 27, 2009; November 3, 2009; Austin American Statesman | The Honorable Lee Leffingwell, Mayor, City of Austin, P.O. Box 1088, Austin, TX 78767 | March 3, 2010 | 480624
Travis (FEMA Docket No.: B-1088) | City of Austin (09-06-0764P). | November 4, 2009; November 11, 2009; Austin American Statesman | The Honorable Lee Leffingwell, Mayor, City of Austin, P.O. Box 1088, Austin, TX 78767 | March 11, 2010 | 480624
Travis (FEMA Docket No.: B-1086) | City of Austin (09-06-1935P). | October 12, 2009; October 19, 2009; Austin American Statesman | The Honorable Lee Leffingwell, Mayor, City of Austin, P.O. Box 1088, Austin, TX 78767 | February 16, 2010 | 480624
Travis (FEMA Docket No.: B-1086) | City of Austin (09-06-2006P). | October 12, 2009; October 19, 2009; Austin American Statesman | The Honorable Lee Leffingwell, Mayor, City of Austin, P.O. Box 1088, Austin, TX 78767 | September 30, 2009 | 480624
Webb (FEMA Docket No.: B-1082) | City of Laredo (08-06-1006P). | September 2, 2008; September 9, 2008; Laredo Morning Times | The Honorable Raul G. Salinas, Mayor, City of Laredo, 1110 Houston Street, Laredo, TX 78040 | January 9, 2009 | 480651
Webb (FEMA Docket No.: B-1081) | Unincorporated areas of Webb County (08-06-3105P). | August 7, 2009; August 14, 2009; Laredo Morning Times | The Honorable Danny Valdez, Webb County Judge, 1000 Houston Street, 3rd Floor, Laredo, TX 78040 | December 14, 2009 | 481059
Williamson (FEMA Docket No.: B-1081) | City of Cedar Park (08-06-2893P). | August 13, 2009; August 20, 2009; Hill Country News | The Honorable Bob Lemon, Mayor, City of Cedar Park, 600 North Bell Boulevard, Cedar Park, TX 78613 | December 18, 2009 | 481282
Williamson (FEMA Docket No.: B-1082) | City of Round Rock (09-06-0338P). | September 10, 2009; September 17, 2009; Round Rock Leader | The Honorable Alan McGraw, Mayor, City of Round Rock, 221 East Main Street, Round Rock, TX 78664 | January 15, 2010 | 481048
Williamson (FEMA Docket No.: B-1082) | Unincorporated areas of Williamson County (09-06-0529P). | September 10, 2009; September 17, 2009; Round Rock Leader | The Honorable Dan A. Gattis, Williamson County Judge, 710 Main Street, Suite 101, Georgetown, TX 78626 | January 15, 2010 | 481079
Utah: Davis (FEMA Docket No.: B-1079) | City of Centerville (09-08-0637P). | August 13, 2009; August 20, 2009; Salt Lake Tribune | The Honorable Ronald G. Russell, Mayor, City of Centerville, 73 West Ricks Creek Way, Centerville, UT 84014 | July 31, 2009 | 490040
Virginia:
Fairfax (FEMA Docket No.: B-1086) | Unincorporated areas of Fairfax County (09-03-0421P). | October 12, 2009; October 19, 2009; Washington Times | The Honorable Sharon Bulova, Chairman, Fairfax County Board of Supervisors, 12000 Government Center Parkway, Fairfax, VA 22035 | February 16, 2010 | 515525
Prince William (FEMA Docket No.: B-1088) | Unincorporated areas of Prince William County (09-03-1773P). | October 28, 2009; November 4, 2009; News & Messenger | The Honorable Corey Stewart, Chairman, Prince William County Board of Supervisors, 1 County Complex Court, Prince William, VA 22192 | March 4, 2010 | 510119
City of Hampton (FEMA Docket No.: B-1090) | City of Hampton (09-03-0030P). | November 9, 2009; November 16, 2009; Daily Press | The Honorable Molly Joseph Ward, Mayor, City of Hampton, 22 Lincoln Street, 8th Floor, Hampton, VA 23669 | March 16, 2009 | 515527
City of Newport News (FEMA Docket No.: B-1090) | City of Newport News (09-03-0030P). | November 9, 2009; November 16, 2009; Daily Press | The Honorable Joe S. Frank, Mayor, City of Newport News, 2400 Washington Avenue, Newport News, VA 23607 | March 16, 2009 | 510103
York (FEMA Docket No.: B-1090) | Unincorporated areas of York County (09-03-0030P). | November 9, 2009; November 16, 2009; Daily Press | The Honorable Walter Zaremba, Chairman, York County Board of Supervisors, 224 Ballard Street, Yorktown, VA 23690 | March 16, 2009 | 510182
Washington:
King (FEMA Docket No.: B-1088) | City of Redmond (08-10-0762P). | October 30, 2009; November 6, 2009; Redmond Reporter | The Honorable John Marchione, Mayor, City of Redmond, P.O. Box 97010, Redmond, WA 98073 | March 8, 2010 | 530087
Spokane (FEMA Docket No.: B-1088) | City of Cheney (09-10-0216P). | October 16, 2009; October 23, 2009; Spokesman Review | The Honorable Allan Gainer, Mayor, City of Cheney, 609 2nd Street, Cheney, WA 99004 | April 7, 2010 | 530175
Spokane (FEMA Docket No.: B-1088) | Unincorporated areas of Spokane County (09-10-0216P). | October 16, 2009; October 23, 2009; Spokesman Review | The Honorable Todd Mielke, Chairman, Spokane County Board of Commissioners, 1116 West Broadway Avenue, Spokane, WA 99260 | April 7, 2010 | 530174
Wyoming:
Natrona (FEMA Docket No.: B-1090) | City of Casper (09-08-0351P). | November 12, 2009; November 19, 2009; Casper Star-Tribune | The Honorable Kenyne Schlager, Mayor, City of Casper, 200 North David Street, Casper, WY 82601 | October 30, 2009 | 560037
Natrona (FEMA Docket No.: B-1090) | Unincorporated areas of Natrona County (09-08-0351P). | November 12, 2009; November 19, 2009; Casper Star-Tribune | The Honorable Robert Hendry, Chairman, Natrona County Board of Commissioners, 200 North Center Street, Room 115, Casper, WY 82601 | October 30, 2009 | 560036

(Catalog of Federal Domestic Assistance No. 97.022, “Flood Insurance.”)

Dated: June 11, 2010.
Sandra K. Knight,
Deputy Federal Insurance and Mitigation Administrator, Mitigation, Department of Homeland Security, Federal Emergency Management Agency.

[FR Doc. 2010-15234 Filed 6-22-10; 8:45 am]

BILLING CODE 9110-12-P